DEPARTMENT OF TRANSPORTATION

National Highway Traffic Safety Administration

49 CFR Part 587

[Docket No. NHTSA-2000-7142]

RIN 2127-AH93

Offset Deformable Barrier

AGENCY: National Highway Traffic Safety Administration (NHTSA), Department of Transportation.

ACTION: Final rule.

SUMMARY: This document amends 49 CFR Part 587 by adding specifications for an offset deformable barrier. This barrier is used in offset deformable barrier tests to evaluate the crashworthiness of vehicles. In this type of test, one side of a vehicle's front end is crashed into a barrier with a deformable face that absorbs some of the crash energy.

Adding the offset deformable barrier to Part 587 is the first step toward using it to evaluate the crashworthiness of vehicles. The issue of specifying use of the barrier as part of the performance requirements of specific safety standards is being addressed in separate rulemaking documents, most notably those concerning requirements for advanced air bags.

DATES: Effective Date: This regulation becomes effective May 1, 2000. The incorporation by reference of the publications listed in the rule is approved by the Director of the Federal Register as of May 1, 2000.

Petitions: Petitions for reconsideration must be received by May 15, 2000.

ADDRESSES: Petitions for reconsideration should refer to the docket number of this rule and be submitted to: Administrator, National Highway Traffic Safety Administration, 400 Seventh Street, SW, Washington, DC 20590.

FOR FURTHER INFORMATION CONTACT: For non-legal issues, you may call John Lee, Office of Crashworthiness Standards, at 202-366-2264.

For legal issues, you may call Edward Glancy, Office of the Chief Counsel, at 202-366-2992.

You may send mail to both of these officials at National Highway Traffic Safety Administration, 400 Seventh St., SW., Washington, DC, 20590.

SUPPLEMENTARY INFORMATION: On September 18, 1998, we published in the Federal Register (63 FR 49958) a notice of proposed rulemaking (NPRM) to upgrade Standard No. 208, Occupant Crash Protection, to require advanced air bags. As part of that document, we proposed specifications for an offset deformable barrier to be used in offset deformable barrier tests. In this type of test, one side of a vehicle's front end is crashed into a barrier with a deformable face that absorbs some of the crash energy.

On November 5, 1999, we published in the Federal Register (64 FR 60556) a supplemental notice of proposed rulemaking (SNPRM) for advanced air bags. In the SNPRM, we updated and refined the amendments under consideration. As to the offset deformable barrier, we stated in the SNPRM that we were not republishing the proposed specifications for the barrier but expected to proceed to a final rule in a separate document. We also stated that we did not expect any significant changes from the NPRM.

As we discussed in the SNPRM, the offset deformable barrier we proposed is already used in various parts of the world in several ways. Europe uses it in 56 km/h (35 mph) offset tests, using belted 50th percentile adult male dummies, pursuant to EU Directive 96/79 EC. It is also used in higher speed offset tests as part of the European and Australian New Car Assessment Programs, and by the Insurance Institute for Highway Safety in this country. Transport Canada uses it in offset tests at impact speeds up to 40 km/h (25 mph), using belted 5th percentile adult female dummies, to evaluate air bag sensor performance and air bag aggressivity.

We received only one comment concerning the proposed specifications for the offset deformable barrier, from DaimlerChrysler. That company identified several errors in the specifications.

In this document, we are adopting as final, with minor modifications, the proposed specifications for the offset deformable barrier. We have corrected the errors identified by DaimlerChrysler and have also made a number of editorial changes for purposes of clarity.

The issue of specifying the use of the offset deformable barrier as part of the performance requirements of specific safety standards is being addressed in separate rulemaking documents, most notably those concerning requirements for advanced air bags. In particular, comments concerning the specific offset deformable barrier tests we proposed as part of the advanced air bag rulemaking, including comments raising issues about the suitability of this barrier for testing heavier light trucks and SUVs, are being addressed as part of the final rule for advanced air bags.

Regulatory Analyses and Notices

Executive Order 12866 and DOT

Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rule is not considered a significant regulatory action under section 3(f) of the Executive Order 12866. Consequently, it was not reviewed by the Office of Management and Budget. This rulemaking document was not reviewed by the Office of Management and Budget under E.O. 12866, “Regulatory Planning and Review.” The rulemaking action is also not considered to be significant under the Department's Regulatory Policies and Procedures (44 FR 11034, February 26, 1979).

This document amends 49 CFR Part 587 by adding specifications for an offset deformable barrier that the agency may separately decide to use in the Federal motor vehicle safety standards. This rule indirectly imposes requirements on only those businesses that choose to manufacture or test with the barrier, in that the agency will only use barriers for compliance testing that meet all of the criteria specified in this rule. It may indirectly affect vehicle and air bag manufacturers if it is incorporated by reference into the final rule for advanced air bags.

The cost of the deformable face, which is destroyed with each test, is approximately $1,025.

Because the economic impacts of this rule are so minimal, no further regulatory evaluation is necessary.

Executive Order 13132

We have analyzed this rule in accordance with Executive Order 13132 (“Federalism”). We have determined that this rule does not have sufficient Federalism impacts to warrant the preparation of a federalism assessment.

Executive Order 13045

Executive Order 13045 (62 FR 19885, April 23, 1997) applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rule is not subject to the Executive Order because it is not economically significant as defined in E.O. 12866. It also does not involve decisions based on health risks that disproportionately affect children.

Executive Order 12778

Pursuant to Executive Order 12778, “Civil Justice Reform,” we have considered whether this rule will have any retroactive effect. This rule does not have any retroactive effect. A petition for reconsideration or other administrative proceeding will not be a prerequisite to an action seeking judicial review of this rule. This rule does not preempt the states from adopting laws or regulations on the same subject, except that it does preempt a state regulation that is in actual conflict with the federal regulation or makes compliance with the Federal regulation impossible or interferes with the implementation of the federal statute.

Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule will not have a significant economic impact on a substantial number of small entities. SBREFA amended the Regulatory Flexibility Act to require Federal agencies to provide a statement of the factual basis for certifying that a rule will not have a significant economic impact on a substantial number of small entities.

I have considered the effects of this rulemaking action under the Regulatory Flexibility Act (5 U.S.C. § 601 et seq.) and certify that this proposal will not have a significant economic impact on a substantial number of small entities. The rule does not impose or rescind any requirements for anyone. The Regulatory Flexibility Act does not, therefore, require a regulatory flexibility analysis.

National Environmental Policy Act

We have analyzed this amendment for the purposes of the National Environmental Policy Act and determined that it will not have any significant impact on the quality of the human environment.

Paperwork Reduction Act

Under the Paperwork Reduction Act of 1995, a person is not required to respond to a collection of information by a Federal agency unless the collection displays a valid OMB control number. This rule does not propose any new information collection requirements.

National Technology Transfer and Advancement Act

Section 12(d) of the National Technology Transfer and Advancement Act of 1995 (NTTAA), Public Law 104-113, section 12(d) (15 U.S.C. 272) directs us to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

The following voluntary consensus standard has been used in developing specifications for the barrier:

• SAE Recommended Practice J211/1, Rev. Mar95 “Instrumentation for Impact Tests.”

Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

This rule does not impose any unfunded mandates under the Unfunded Mandates Reform Act of 1995. This rule does not meet the definition of a Federal mandate because it does not impose requirements on anyone. Further, it will not result in costs of $100 million or more to either State, local, or tribal governments, in the aggregate, or to the private sector. Thus, this rule is not subject to the requirements of sections 202 and 205 of the UMRA.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 587

Incorporation by reference, Motor vehicle safety.

In consideration of the foregoing, NHTSA amends 49 CFR Part 587 as follows:

PART 587—DEFORMABLE BARRIERS

1. The authority citation for part 587 is revised to read as follows:

Authority: 49 U.S.C. 322, 30111, 30115, 30117, and 30166; delegation of authority at 49 CFR 1.50.

2. The heading of part 587 is revised to read as set forth above.

3. The heading “Subpart A—General” is added immediately before § 587.1.

4. Section 587.1 is revised to read as follows:

§ 587.1 Scope.

This part describes deformable impact barriers that are to be used for testing compliance of motor vehicles with motor vehicle safety standards.

5. Section 587.3 is revised to read as follows:

§ 587.3 Application.

This part does not in itself impose duties or liabilities on any person. It is a description of tools that are used in compliance tests to measure the performance of occupant protection systems required by the safety standards that refer to these tools. It is designed to be referenced by, and become part of, the test procedures specified in motor vehicle safety standards such as Standard No. 208, Occupant Crash Protection, and Standard No. 214, Side Impact Protection.

Subpart B—[Amended]

6. The heading “Subpart B—Side Impact Moving Deformable Barrier” is added immediately after the end of § 587.3.

§§ 587.7 through 587.10 [Reserved]

7. Sections 587.7 through 587.10 are reserved.

Subpart C—[Amended]

8. The heading “Subpart C—Offset Deformable Barrier” is added immediately after the end of § 587.10.

§ 587.11 [Reserved]

9. Section 587.11 is reserved.

10. Sections 587.12 through 587.19 are added to read as follows:

§ 587.12 Incorporation by reference.

Society of Automotive Engineers (SAE) Recommended Practice J211/1 Rev. MAR 95, Instrumentation for Impact Tests-Part 1—Electronic Instrumentation, is incorporated by reference in § 587.15 in accordance with 5 U.S.C. 552(a) and 1 CFR part 51. A copy may be obtained from SAE at Society of Automotive Engineers, Inc., 400 Commonwealth Drive, Warrendale, PA 15096. A copy of the material may be inspected at NHTSA's Docket Section, 400 Seventh Street, S.W., room 5109, Washington, DC, or at the Office of Federal Register, 800 North Capitol Street, N.W., Suite 700, Washington, DC.

§ 587.13 General description.

The offset deformable barrier is comprised of two elements: a fixed rigid barrier and a deformable face (Figure 1). The fixed rigid barrier is adequate to not deflect or displace more than 10 mm during the vehicle impact. The deformable face consists of aluminum honeycomb and aluminum covering.

§ 587.14 Deformable face component dimensions and material specifications.

The dimensions of the deformable face are illustrated in Figure 1 of this subpart. The dimensions and materials of the individual components are listed separately below. All dimensions allow a tolerance of ± 2.5 mm (0.1 in) unless otherwise specified.

(a) Main honeycomb block.

(1) Dimensions. The main honeycomb block has a height of 650 mm (25.6 in) (in the direction of honeycomb ribbon axis), a width of 1,000 mm (39.4 in), and a depth of 450 mm (17.7 in)(in the direction of honeycomb cell axis).

(2) Material. The main honeycomb block is constructed of the following material. The honeycomb is manufactured out of aluminum 3003, with a foil thickness of 0.076 mm (0.003 in) ± 0.004 mm (0.002 in) a cell size of 19.14 mm (0.75 in), a density of 28.6 kg/m³ (1.78 lb/ft ³) ± 2kg/m³ (0.25 1b/ft ³), and a crush strength of 0.342 MPa (49.6 psi) + 0%−10%, measured in accordance with the certification procedure described in § 587.15.

(b) Bumper element honeycomb.

(1) Dimensions. The bumper element honeycomb has a height of 330 mm (13 in)(in the direction of honeycomb ribbon axis), a width of 1,000 mm (39.4 in), and a depth of 90 mm (3.5 in) (in the direction of honeycomb cell axis).

(2) Material. The bumper element honeycomb is constructed of the following material. The honeycomb is manufactured out of aluminum 3003, with a foil thickness of 0.076 mm (0.003 in) ± 0.004 mm (0.0002 in), a cell size of 6.4 mm (0.25 in) ± 1 mm (0.040 in), a density of 82.6 kg/m³ (5.15 lb/ft ³) ± 3 kg/m³ (0.19 lb/ft ³), and a crush strength of 1.711 MPa (248 psi) + 0% −10%, measured in accordance with the certification procedure described in § 587.14.

(c) Backing sheet.

(1) Dimensions. The backing sheet has a height of 800 mm (31.5 in), a width of 1,000 mm (39.4 in), and a thickness of 2.0 mm (0.08 in) ± 0.1 mm (0.004 in).

(2) Material. The backing sheet is manufactured out of aluminum 5251/5052.

(d) Cladding sheet.

(1) Dimensions. The cladding sheet of the main honeycomb block has a total length of 1,700 mm (66.9 in), a width of 1,000 mm (39.4 in), and a thickness of 0.81 mm (0.03 in) ± 0.07 mm (0.003 in). It is shaped as indicated in Figure 1.

(2) Material. The cladding sheet of the main honeycomb block is manufactured out of aluminum 5251/5052.

(e) Bumper element honeycomb facing sheet.

(1) Dimensions. The bumper facing sheet has a height of 330 mm (13 in), a width of 1,000 mm (39.4 in), and a thickness of 0.81 mm (0.03 in) ± 0.07 mm (0.003 in).

(2) Material. The bumper element honeycomb facing sheet is manufactured out of aluminum 5251/5052.

(f) Adhesive. The adhesive used throughout is a two-part polyurethane. (such as Ciba-Geigy XB5090/1 resin with XB5304 hardener, or equivalent).

§ 587.15 Verification of aluminum honeycomb crush strength

The following procedure is used to ascertain the crush strength of the main honeycomb block and the bumper element honeycomb, as specified in §§ 587.14(a)(2) and 587.14(b)(2).

(a) Sample locations. To ensure uniformity of crush strength across the whole of the deformable face, 8 samples are taken from 4 locations evenly spaced across the honeycomb material. Seven of these 8 samples must meet the crush strength requirements when tested in accordance with the following sections. The location of the samples depends on the size of the honeycomb material being tested. Four samples, each measuring 300 mm (11.8 in) × 300 mm (11.8 in) × 25 mm (1 in) thick are cut from the honeycomb material. (See Figure 2 for how to locate these samples on two different sizes of honeycomb material.) Each of these larger samples is cut into samples of the size specified in § 587.15(b). Verification is based on the testing of two samples from each of the four locations. The other two samples are retained for future verification, if necessary.

(b) Sample size. Samples of the following size are used for testing. The length is 150 mm (5.9 in) ± 6 mm (0.24 in), the width is 150 mm (5.9 in) ± 6 mm (0.24 in), and the thickness is 25 mm (1 in) ± 2 mm (0.08 in). The walls of incomplete cells around the edge of the sample are trimmed as follows (See Figure 3). In the width (“W”) direction, the fringes (“f”) are no greater than 1.8 mm (0.07 in); in the length (“L”) direction, the fringes (“e”) are at least half the length of one bonded cell wall (“d”) (in the ribbon direction).

(c) Area measurement. The length of the sample is measured in three locations, 12.7 mm (0.5 in) from each end and in the middle, and recorded as L1, L2, and L3 (Figure 3). In the same manner, the width is measured and recorded as W1, W2, and W3 (Figure 3). These measurements are taken on the centerline of the thickness. The crush area is then calculated as:

(d) Crush rate and distance. The sample is crushed at a rate of not less than 5.1 mm/min (0.2 in/ min) and not more than 7.6 mm/min (0.29 in/min). The minimum crush distance is 16.5 mm (0.65 in). Force versus deflection data are collected in either analog or digital form for each sample tested. If analog data are collected, a means of converting the data to digital data must be made available. All digital data are collected at a rate consistent with SAE Recommended Practice J211/1 Rev. MAR 95 (see § 587.12).

(e) Crush strength determination. Ignore all data prior to 6.4 mm (0.25 in) of crush and after 16.5 mm (0.65 in) of crush. Divide the remaining data into three sections or displacement intervals (n = 1, 2, 3) (see Figure 4) as follows. Interval one is from 6.4-9.7 mm (0.25-0.38 in) deflection, inclusive. Interval two is from 9.7-13.2 mm (0.38-0.52 in) deflection, exclusive. Interval three is from 13.2-16.5 mm (0.52-0.65 in) deflection, inclusive. Find the average for each section as follows:

where m represents the number of data points measured in each of the three intervals. Calculate the crush strength of each section as follows:

(f) Sample crush strength specification. For a honeycomb sample to meet crush strength requirements, the following condition must be met. For the 0.342 MPa (49.6 psi) material, the strength must be equal to or greater than 0.308 MPa (45 psi) but less than or equal to 0.342 MPa (49.6 psi) for all three compression intervals. For the 1.711 MPa (248 psi) material the strength must be equal to or greater than 1.540 MPa (223 psi) but less than or equal to 1.711 MPa (248 psi) for all three compression intervals.

(g) Testing hardware.

(1) The hardware used to verify crush strength is capable of applying a load of 13.3 kN (3,000 lb), over at least a 16.5 mm (0.65 in) stroke. The crush rate is constant and known. To ensure that the load is applied to the entire sample, the top and bottom crush plates are no smaller than 165 mm by 165 mm (6.5 in × 6.5 in). The engaging surfaces of the crush plates have a roughness approximately equivalent to 60 grit sandpaper. The bottom crush plate is marked to ensure that the applied load is centered on the sample.

(2) The crush plate assemblies have an average angular rigidity (about axes normal to the direction of crush) of at least 1017 Nm/deg (750 ft-lb/deg), over the range of 0 to 203 Nm (0 to 150 ft-lb) applied torque.

§ 587.16 Adhesive bonding procedure.

Immediately before bonding, aluminum sheet surfaces to be bonded are thoroughly cleaned using a suitable solvent, such as 1-1-1 Trichloroethane. This is carried out at least twice and more often if required to eliminate grease or dirt deposits. The cleaned surfaces are abraded using 120 grit abrasive paper. Metallic/silicon carbide abrasive paper is not to be used. The surfaces are thoroughly abraded and the abrasive paper changed regularly during the process to avoid clogging, which could lead to a polishing effect. Following abrading, the surfaces are thoroughly cleaned again, as above. In total, the surfaces are solvent-cleaned at least four times. All dust and deposits left as a result of the abrading process are removed, as these can adversely affect bonding. The adhesive is applied to one surface only, using a ribbed rubber roller. In cases where honeycomb is to be bonded to aluminum sheet, the adhesive is applied to the aluminum sheet only. A maximum pressure of 0.5 kg/m² (11.9 lb/ft²) is applied evenly over the surface, giving a maximum film thickness of 0.5 mm (0.02 in).

§ 587.17 Construction.

(a) The main honeycomb block is bonded to the backing sheet with adhesive such that the cell axes are perpendicular to the sheet. The cladding sheet is adhesively bonded to the front surface of the main honeycomb block. The top and bottom surfaces of the cladding sheet are not bonded to the main honeycomb block but are positioned close to it. The cladding sheet is adhesively bonded to the backing sheet at the mounting flanges. The bumper element honeycomb is adhesively bonded to the front of the cladding sheet such that the cell axes are perpendicular to the sheet. The bottom of the bumper element honeycomb is flush with the bottom surface of the cladding sheet. The bumper facing sheet is adhesively bonded to the front of the bumper element honeycomb.

(b) The bumper element honeycomb is divided into three equal sections by means of two horizontal slots. These slots are cut through the entire depth of the bumper element and extend the whole width of the bumper. The slots are cut using a saw; their width is the width of the blade used which do not exceed 4.0 mm (0.16 in).

(c) Clearance holes for mounting the deformable face are drilled in the cladding sheet mounting flanges (shown in Figure 5). The holes are 20 mm (0.79 in) in diameter. Five holes are drilled in the top flange at a distance of 40 mm (1.57 in) from the top edge of the flange and five holes in the bottom flange at a distance of 40 mm (1.6 in) from the bottom edge of the flange. The holes are spaced at 100 mm (3.9 in), 300 mm (11.8 in), 500 mm (19.7 in), 700 mm (27.5 in), 900 mm (35.4 in) horizontally, from either edge of the barrier. All holes are drilled within ±1 mm (0.04 in) of the nominal distances.

§ 587.18 Dimensions of fixed rigid barrier.

(a) The fixed rigid barrier has a mass of not less than 7 × 10⁴ kg (154,324 lb).

(b) The height of the fixed rigid barrier is at least as high as the highest point on the vehicle at the intersection of the vertical transverse plane tangent to the forwardmost point of both front tires, when the tires are parallel to the longitudinal centerline of the vehicle, and the vertical plane through the longitudinal centerline of the vehicle.

§ 587.19 Mounting.

(a) The deformable face is rigidly attached to the edge of the fixed rigid barrier or to some rigid structure attached thereto. The front of the fixed rigid barrier to which the deformable face is attached is flat (continuous over the height and width of the face and vertical ±1 degree and perpendicular ±1 degree to the axis of the run-up track). The edge of the deformable face is aligned with the edge of the fixed rigid barrier appropriate for the side of the vehicle to be tested.

(b) The deformable face is attached to the fixed rigid barrier by means of ten bolts, five in the top mounting flange and five in the bottom, such that the bottom of the bumper element honeycomb is 200 mm (7.8 in) ±15 mm (0.6 in) from the ground. These bolts are at least 8 mm (0.3 in) in diameter. Steel clamping strips are used for both the top and bottom mounting flanges (Figure 1). These strips are 60 mm (2.4 in) high and 1000 mm (39.4 in) wide and have thickness of at least 3 mm (0.12 in). Five clearance holes of 20 mm (0.8 in) diameter are drilled in both strips to correspond with those in the mounting flange on the deformable face cladding sheet (see § 586.17(c)).

11. The heading “Figures to Subpart C of 49 CFR Part 587” is added immediately after the end of § 587.19.

12. Figures 1 through 5 are added at the end of Part 587 to read as follows:

BILLING CODE 4910-59-P

Issued on: March 28, 2000.
Rosalyn G. Millman,
Acting Administrator.

[FR Doc. 00-8009 Filed 3-30-00; 8:45 am]

BILLING CODE 4910-59-C